COMMISSION ON CIVIL RIGHTS

Notice of Public Meetings of the Colorado Advisory Committee to the U.S. Commission on Civil Rights

AGENCY: Commission on Civil Rights.

ACTION: Notice of Public Meetings.

SUMMARY: Notice is hereby given, pursuant to the provisions of the rules and regulations of the U.S. Commission on Civil Rights (Commission) and the Federal Advisory Committee Act that the Colorado Advisory Committee (Committee) to the U.S. Commission on Civil Rights will hold the second and third in a series of three virtual briefings, as well as a virtual community forum, to examine allegations of antisemitism at the University of Colorado at Denver, Community College of Denver, and Metropolitan State University of Denver. The second virtual briefing will take place on Wednesday, August 20, 2025, from 2:00 p.m. to 4:00 p.m. Mountain Time. Immediately following this briefing, the Committee will hold a virtual community forum from 4:00 p.m. to 5:00 p.m. Mountain Time. The third and final virtual briefing in the series will convene on Wednesday, September 3, 2025, from 2:00 p.m. to 4:00 p.m. Mountain Time.

DATES:

Wednesday, August 20, 2025, at 2:00 p.m. Mountain Time

Wednesday, September 3, 2025, at 2:00 p.m. Mountain Time

ADDRESSES: The meetings will be held via Zoom.

8/20/25 Briefing and Community Forum Link (Audio/Visual): https://www.zoomgov.com/webinar/register/WN_DfF2rZgIQO-TxWakKUc4nQ.

Join by Phone (Audio Only): 1-833 435 1820 USA Toll Free; Meeting ID: 160 768 4758 #.

9/3/25 Meeting Link (Audio/Visual): https://www.zoomgov.com/webinar/register/WN_Qi2_wH40Sbq2DLsA9hUV1g.

Join by Phone (Audio Only): 1-833 435 1820 USA Toll Free; Meeting ID: 161 151 3494 #.

FOR FURTHER INFORMATION CONTACT: Ana Fortes, Designated Federal Official, at afortes@usccr.gov. or by phone at 202-681-0857.

SUPPLEMENTARY INFORMATION: Any interested member of the public may attend the meetings via the links above. Before adjourning the meetings, the committee chair will announce that any member of the public may make a brief oral statement, as time allows. Per the Federal Advisory Committee Act, public minutes of meetings will include a list of persons who are present at meetings. If joining via phone, callers can expect to incur regular charges for calls they initiate over wireless lines, according to their wireless plan. The Commission will not refund any incurred charges. Callers will incur no charge for calls they initiate over land-line connections to the toll-free telephone number. Closed captioning is available by selecting “CC” in the meeting platform. To request additional accommodations, please email ebohor@usccr.gov at least 10 business days prior to each meeting.

Members of the public are entitled to submit written comments; the comments must be received in the regional office within 30 days following scheduled meetings. Written comments may be emailed to Evelyn Bohor at ebohor@usccr.gov; please include Colorado Committee in the subject line of the transmitting email. Persons who desire additional information may contact the Regional Programs Coordination Unit at 1-312-353-8311.

Records generated from these meetings may be inspected and reproduced at the Regional Programs Coordination Unit Office, as they become available, both before and after each meeting. Records of the meetings will be available via the file sharing website: https://usccr.box.com/s/aq52obvbs8uhkx2a0198po94elwbf2vl. Persons interested in the work of this Committee are directed to the Commission's website, http://www.usccr.gov, or may contact the Regional Programs Coordination Unit at ebohor@usccr.gov.

Agenda

August 20, 2025

Briefing

I. Welcome and Roll Call

II. Briefing II Panel Presentations

III. Q & A

IV. Closing Remarks, Transition to Community Forum

Community Forum

I. Welcome

II. Community Forum

V. Adjournment

Agenda

September 3, 2025

I. Welcome and Roll Call

II. Briefing III Panel Presentations

III. Q & A

IV. Public Comment

V. Adjournment

Dated: August 1, 2025.
David Mussatt,
Supervisory Chief, Regional Programs Unit.

[FR Doc. 2025-14821 Filed 8-4-25; 8:45 am]

BILLING CODE P